DEPARTMENT OF JUSTICE

Notice of Lodging of Consent Decree Pursuant to the Clean Water Act

In accordance with Departmental Policy, 28 CFR 50.7, notice is hereby given that a consent decree in United States v. Feinstein Family Partnership, et al., Case No. 96-232-CIV-FTM-24D (M.D. Fla.) was lodged with the United States District Court for the Middle District of Florida on November 17, 2000.

The proposed consent decree concerns violations of the Clean Water Act, 33 U.S.C. 1311, resulting from the unauthorized discharge of dredged or fill materials into waters of the United States at the Colonial Properties site, a development in Lee County, Florida. The consent decree requires the preservation of wetlands at the site and the purchase of credits in a wetlands mitigation bank.

The Department of Justice will receive written comments relating to the proposed consent decree for a period of thirty (30) days from the date of publication of this notice. Comments should be addressed to the Assistant Attorney General, Environment and Natural Resources Division, United States Department of Justice, Attention: S. Randall Humm, Trial Attorney, Environmental Defense Section, P.O. Box 23986, Washington, DC 20026-3986, and should refer to United States of America v. Feinstein Family Partnership, et al., DJ Reference No. 90-5-1-6-626.

The proposed consent decree may be examined at the Clerk's Office, United States District Court for the Middle District of Florida, Room 2-194, United States Courthouse and Federal Building, 2110 First Street, Fort Myers, FL 33901.

Letitia J. Grishaw,
Chief, Environmental Defense Section, Environment and Natural Resources Division, Department of Justice.

[FR Doc. 00-30604 Filed 11-30-00; 8:45 am]

BILLING CODE 4410-15-M